DEPARTMENT OF HEALTH AND HUMAN SERVICES

Announcement of Intent To Establish the 2018 Physical Activity Guidelines Advisory Committee and Solicitation of Nominations for Appointment to the Committee Membership

AGENCY: Office of Disease Prevention and Health Promotion, Office of the Assistant Secretary for Health, Office of the Secretary, Department of Health and Human Services.

ACTION: Notice.

SUMMARY: The U.S. Department of Health and Human Services (HHS) announces the intent to establish a Physical Activity Guidelines Advisory Committee (Committee). It is planned for the Committee to be established in calendar year 2016. This notice also serves to announce that an invitation is being extended for nominations of qualified candidates to be considered for appointment as a member of the Committee.

DATES: Nominations for membership on the Committee must be submitted by 6:00 p.m. ET on Friday, February 5, 2016.

ADDRESSES: Nominations should be submitted by email to PAGACnominations@hhs.gov. This address can be accessed online at the following address: www.health.gov/paguidelines. Nominations may also be sent to the following address: Richard D. Olson, M.D., M.P.H., Designated Program Official, 2018 Physical Activity Guidelines Advisory Committee; HHS/OASH/ODPHP; 1101 Wootton Parkway, Suite LL-100; Rockville, MD 20852; Telephone: (240) 453-8280.

FOR FURTHER INFORMATION CONTACT: Designated Program Official, 2018 Physical Activity Guidelines Advisory Committee, Richard D. Olson and/or Alternate Designated Program Official, Katrina L. Piercy, Ph.D., R.D., HHS/OASH/ODPHP; 1101 Wootton Parkway, Suite LL-100; Rockville, MD 20852; Telephone: (240) 453-8280. Additional information is available at www.health.gov/paguidelines.

SUPPLEMENTARY INFORMATION: Purpose: The inaugural Physical Activity Guidelines for Americans (PAG), issued in 2008, represents the first major federal review of the benefits of physical activity. The PAG provides science-based advice on how physical activity can help promote health and reduce the risk of chronic disease. The PAG serves as the benchmark and primary, authoritative voice of the federal government for providing science-based guidance on physical activity, fitness, and health in the United States. Five years after the first edition of the PAG was released, ODPHP, in collaboration with the Centers for Disease Control and Prevention (CDC), the National Institutes of Health (NIH), and the President's Council on Fitness, Sports, and Nutrition (PCFSN) led development of the PAG Midcourse Report: Strategies to Increase Physical Activity Among Youth. The 2nd edition of the Physical Activity Guidelines will build upon the 1st edition and provide a foundation for federal recommendations and education for physical activity programs for Americans, including those at risk for chronic disease.

The Committee will be established as a discretionary federal advisory committee and governed by the provisions of the Federal Advisory Committee Act (FACA), Public Law 92-463, as amended (5 U.S.C., App.). The work of the Committee will be solely advisory in nature and time-limited. Formation of the Committee is necessary and in the public interest. The Committee will examine the current PAG, take into consideration new scientific evidence and current resource documents, and then develop a scientific advisory report to be submitted to the Secretary of HHS that outlines its science-based recommendations and rationale. The scientific report will be used by the federal government to develop the 2nd edition of the Physical Activity Guidelines for Americans. The Committee's duties do not include developing the policy, a draft of the policy, or determining how future policy might be implemented by the federal government. For those interested in reviewing the Physical Activity Guidelines for Americans, the 2008 Advisory Committee Scientific Report, or the PAG Midcourse Report, they are available at www.health.gov/paguidelines.

The Committee is expected to begin meeting in summer of 2016. The Committee is expected to meet approximately five times during the course of its operation. Pursuant to FACA, all meetings of the full Committee will be open to the public.

Individuals selected for appointment to the Committee will be invited to serve as members until the charter expires or the Committee accomplishes its mission. In keeping with FACA, the charter will expire two years from the date it is established. The Committee will operate until its report is delivered to the Secretary or the charter expires, whichever comes first. There will be no stipend authorized to be paid to the members for performance of their official duties. However, Committee members will be authorized to receive per diem and reimbursement for travel expenses incurred for attending public meetings.

Structure: It is proposed that the Committee will consist of 11-17 members; one or two members will be selected to serve as the Chair, Vice Chair, and/or Co-Chairs. To be eligible for consideration of appointment to the Committee, individuals should be knowledgeable of current scientific research in human physical activity and be respected and published experts in their fields. They should be familiar with the purpose, communication, and application of federal physical activity guidelines and have demonstrated interest in the public's health and well-being through their research and/or educational endeavors. Expertise is sought in specific specialty areas related to physical activity and health promotion or disease prevention, including but not limited to: Health promotion and chronic disease prevention; bone, joint, and muscle health and performance; obesity and weight management; physical activity and risk of musculoskeletal injury; physical activity and cognition; physical activity within specific settings, such as preschool/childcare, schools (e.g., activity breaks, physical education), or the community/built environment; physical activity dose-response; sedentary behavior; behavior change; systematic reviews; and special populations including children, older adults, individuals with disabilities, or women who are pregnant.

Nominations: HHS will consider nominations, including self-nominations, for Committee membership of individuals qualified to carry out the above-mentioned tasks. The following information should be included in the package of material submitted for each individual being nominated for consideration: (1) The name, address, daytime telephone number, and email address of the nominator and the individual being nominated; (2) a letter of nomination that clearly states the name and affiliation of the nominee, the basis for the nomination (i.e., specific attributes which qualify the nominee for service in this capacity), and a statement from the nominee that the nominee is willing to serve as a member of the Committee; and (3) a current copy of the nominee's curriculum vitae (CV) no more than 10 pages in length. Inclusion of the following is requested in the CV: (1) Current and/or past grant awards; (2) publications showing both breadth and experience in areas of specialization; (3) paid and non-paid board and advisory appointments; and (4) education and occupational history.

All nominations must include the required information. Incomplete nominations will not be processed for consideration. Federal employees should not be nominated for consideration of appointment to this Committee.

Equal opportunity practices regarding membership appointments to the Committee will be aligned with HHS policies. When possible, every effort will be made to ensure that the Committee is a diverse group of individuals with representation from various geographic locations, racial and ethnic minorities, all genders, and persons with disabilities. Individuals will be appointed to serve as members of the Committee to represent balanced viewpoints of the scientific evidence, not to represent the viewpoints of any specific group.

Members of the Committee will be classified as special government employees (SGEs) during their term of appointment to the Committee, and as such are subject to the ethical standards of conduct for federal employees. Upon entering the position and annually throughout the term of appointment, members of the Committee will be required to complete and submit a report of their financial holdings, consultancies, and research grants and/or contracts. The purpose of this report is to determine if the individual has any interest and/or activities in the private sector that may conflict with performance of their official duties as a member of the Committee.

Dated: December 15, 2015.
Don Wright,
Deputy Assistant Secretary for Health, Office of Disease Prevention and Health Promotion.

[FR Doc. 2015-31837 Filed 12-17-15; 8:45 am]

BILLING CODE 4150-32-P